DEPARTMENT OF HEALTH AND HUMAN SERVICES

Centers for Disease Control and Prevention

[30Day-13-13PV]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC 20503 or by fax to (202) 395-5806. Written comments should be received within 30 days of this notice.

Proposed Project

Study to Explore Educational Children's Book in Pediatric Offices—NEW—National Center on Birth Defects and Developmental Disabilities (NCBDDD), Centers for Disease Control and Prevention (CDC).

Background and Brief Description

Using a children's picture book format, CDC developed Amazing Me: It's Busy Being 3! to increase awareness of developmental milestones among parents of 3-year-old children and actively engage them in the monitoring of their child's development. CDC partnered with Lysol and Reach Out and Read (ROR), a non-profit organization that promotes early literacy among low-income families by distributing books in pediatric exam rooms, to disseminate copies of Amazing Me to parents. In Spring 2012, 250 of RoR's largest pediatric clinics each received 300 copies of Amazing Me for distribution to parents of 3-year-old children during well-child visits. Distribution of Amazing Me through RoR practices was used as a vehicle to reach those at higher risk for developmental delays and disabilities: Children insured by Medicaid and children from families with low incomes.

Preliminary data gathered from a web survey of RoR clinic staff indicates that clinic staff are not only receptive to but supportive of the Amazing Me book. However, the web survey of RoR clinic staff does not provide information from the book's target audience: Parents. If CDC wishes to expand book distribution beyond ROR clinic settings, it will be important to gather data on parents' experiences receiving the Amazing Me book as part of a pediatric visit, and what kind of influence, if any, the book has had on their knowledge, attitudes, and beliefs about developmental milestones.

To this end, CDC will identify and recruit three ROR pediatric practices and three non-ROR practices in the greater Atlanta, Georgia and greater Washington, DC areas to distribute copies of Amazing Me to parents/guardians of 3 year olds, soon to be 3 year olds, or recently turned 4 year olds attending the selected practices. The study will gather feedback from parents/guardians about (1) their experiences receiving the book as part of a pediatric visit, and (2) the influence of the book on their awareness, attitudes, and self-efficacy regarding monitoring developmental milestones. Findings from the parent web survey and focus groups will help CDC to determine if a children's book is an effective channel for reaching parents, whether more books like Amazing Me for other age groups should be developed, and if the ROR book distribution model is an effective means to reach low-income and at-risk families.

Data will be gathered through a web survey of 900 parents/guardians who have received a copy of the Amazing Me book from participating ROR and non-ROR practices. Parents/guardians will access the web survey by logging onto a URL address provided on a sticker affixed to the inside cover of each Amazing Me book. All survey responses (100%) will be submitted through a secure survey Web site established for this project.

CDC will also conduct six follow-up focus groups with survey respondents to gather more in-depth information from parents about their experiences reading the Amazing Me book at home with their children and assessing their child's development using the book. We estimate that we will screen 60 parents/guardians to recruit 54 participants for the focus groups. These six focus groups will be conducted in greater Atlanta, Georgia (2) and greater Washington, DC (4).

This request is submitted to obtain OMB clearance for one year. The estimated annualized burden is 229 hours. There are no costs to the respondents other than their time.

Estimated Annualized Burden Hours
Type of respondent | Form name | Number of respondents | Number of responses per respondent | Average burden per response (in hours)
Parents/Guardians | Web Survey | 900 | 1 | 10/60
Parents/Guardians | Follow-up web survey | 900 | 1 | 1/60
Parents/Guardians | Focus Group Screener | 60 | 1 | 5/60
Parents/Guardians | Focus Group Informed Consent | 54 | 1 | 5/60
Parents/Guardians | Focus Group Moderator | 54 | 1 | 1

__________________________________

Leroy A. Richardson,
Chief, Information Collection Review Office, Office of Scientific Integrity, Office of the Associate Director for Science, Office of the Director, Centers for Disease Control and Prevention.

[FR Doc. 2013-17799 Filed 7-23-13; 8:45 am]

BILLING CODE 4163-18-P